DEPARTMENT OF HOMELAND SECURITY

Coast Guard

33 CFR Part 117

[Docket No. USCG-2017-0444]

Drawbridge Operation Regulation; Neponset River, Boston, MA

AGENCY: Coast Guard, DHS.

ACTION: Notice of deviation from drawbridge regulation.

SUMMARY: The Coast Guard has issued a temporary deviation from the operating schedule that governs the Granite Avenue Bridge across Neponset River, mile 2.5, at Boston, Massachusetts. This deviation is necessary in order to facilitate the McKeon Post Scholarship Road Race and allows the bridge to remain in the closed position for two hours.

DATES: This deviation is effective from 9:30 a.m. to 11:30 a.m. on June 18, 2017.

ADDRESSES: The docket for this deviation, USCG-2017-0444 is available at http://www.regulations.gov. Type the docket number in the “SEARCH” box and click “SEARCH”. Click on Open Docket Folder on the line associated with this deviation.

FOR FURTHER INFORMATION CONTACT: If you have questions on this temporary deviation, call or email James L. Rousseau, Senior Bridge Management Specialist, First District Bridge Branch, U.S. Coast Guard; telephone 617-223-8619, email james.l.rousseau2@uscg.mil.

SUPPLEMENTARY INFORMATION: The owner of the bridge, the Massachusetts Department of Transportation, requested a temporary deviation from the normal operating schedule to facilitate a road race. The Granite Avenue Bridge, mile 2.5, across Neponset River, has a vertical clearance of 6 feet at mean high water and 16 feet at mean low water in the closed position. The existing drawbridge operating regulations are listed at 33 CFR 117.611.

The temporary deviation will allow the Granite Avenue Bridge to remain closed from 9:30 a.m. through 11:30 a.m. on June 18, 2017. The waterway is used primarily by seasonal recreational vessels. Coordination with waterway users has indicated no objections to the proposed short-term closure of the draw.

Vessels able to pass through the bridge in the closed positions may do so at anytime. The bridge will be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: May 23, 2017.
C.J. Bisignano,
Supervisory Bridge Management Specialist, First Coast Guard District.

[FR Doc. 2017-10856 Filed 5-25-17; 8:45 am]

BILLING CODE 9110-04-P